DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of a person whose property and interests in property have been unblocked.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION: Electronic Availability

The Specially Designated Nationals and Blocked Persons List and additional information concerning OFAC sanctions programs are available on OFAC's website (www.treasury.gov/ofac).

Notice of OFAC Actions

On December 21, 2022, OFAC determined that the property and interests in property subject to U.S. jurisdiction of the following person are unblocked and the person is removed from the SDN List under the relevant sanctions authority listed below.

Individual:

1. CASTILLO CASTILLO, Orlando Jose (a.k.a. CASTILLO, Orlando), Residencial Bolonia, Canal 2 1 Cuadra Al Sur 3 C Al Oeste, Managua, Nicaragua; DOB 02 Sep 1943; POB Esteli, Nicaragua; nationality Nicaragua; Gender Male; Passport C01713933 (Nicaragua) issued 24 Jul 2014 expires 24 Jul 2024; National ID No. 1610209430002G (Nicaragua) (individual) [NICARAGUA].

Pursuant to C.F.R 31 § 501.807, OFAC has determined that circumstances no longer warrant the inclusion of the above-named person on the SDN List based on criteria contained in Executive Order 13851, “Blocking Property of Certain Persons Contributing to the Situation in Nicaragua.”

On December 21, 2022, OFAC determined that the aircraft below is unblocked and the aircraft is removed from the SDN List under the relevant sanctions authority listed below.

Aircraft:

1. N488RC; Aircraft Model G200; Aircraft Manufacturer's Serial Number (MSN) 228; Aircraft Tail Number N488RC (aircraft) [VENEZUELA] (Linked To: SARRIA DIAZ, Rafael Alfredo).

Pursuant to C.F.R 31 § 501.807, OFAC has determined that circumstances no longer warrant the inclusion of the above-named aircraft on the SDN List based on criteria contained in Executive Order 13692, “Blocking Property and Suspending Entry of Certain Persons Contributing to the Situation in Venezuela.”

Dated: December 21, 2022.
Andrea M. Gacki,
Director,Office of Foreign Assets Control,U.S. Department of the Treasury.

[FR Doc. 2022-28145 Filed 12-23-22; 8:45 am]

BILLING CODE 4810-AL-P